DEPARTMENT OF COMMERCE

National Oceanic and Atmospheric Administration

RIN 0648-XG617

North Pacific Fishery Management Council; Public Meeting

AGENCY: National Marine Fisheries Service (NMFS), National Oceanic and Atmospheric Administration (NOAA), Commerce.

ACTION: Notice of telephonic meeting.

SUMMARY: The North Pacific Fishery Management Council (Council) Halibut Stakeholder Committee will hold a teleconference on November 29, 2018.

DATES: The meeting will be held on Thursday, November 29, 2018, from 10 a.m. to 12 p.m., Alaska Standard Time.

ADDRESSES: The meeting will be held telephonically. Teleconference line: (907) 271-2896.

Council address: North Pacific Fishery Management Council, 605 W 4th Ave., Suite 306, Anchorage, AK 99501-2252; telephone (907) 271-2809.

FOR FURTHER INFORMATION CONTACT: Diana Stram, Council staff; telephone: (907) 271-2809.

SUPPLEMENTARY INFORMATION:

Agenda

Thursday, November 29, 2018

The agenda will be to discuss terms of reference for the committee, timing and process for submission of scenarios, information available, process for recommending management objectives and performance metrics, scheduling, and other issues. The Agenda is subject to change, and the latest version will be posted at: https://www.npfmc.org

Public Comment

Public comment letters will be accepted and should be submitted either electronically to Diana Stram, Council staff: diana.stram@noaa.gov or through the mail: North Pacific Fishery Management Council, 605 W 4th Ave., Suite 306, Anchorage, AK 99501-2252. Oral public testimony will be accepted at the discretion of the Chair.

Special Accommodations

The meeting is physically accessible to people with disabilities. Requests for sign language interpretation or other auxiliary aids should be directed to Shannon Gleason at (907) 271-2809 at least 7 working days prior to the meeting date.

Dated: November 6, 2018.
Tracey L. Thompson,
Acting Deputy Director, Office of Sustainable Fisheries, National Marine Fisheries Service.

[FR Doc. 2018-24602 Filed 11-8-18; 8:45 am]

BILLING CODE 3510-22-P